DEPARTMENT OF AGRICULTURE

Forest Service

Prescott National Forest, Bradshaw Ranger District; Arizona; Bradshaw Vegetation Management Project

AGENCY: Forest Service, USDA.

ACTION: Notice of intent to prepare an environmental impact statement.

SUMMARY: This project is a proposal to improve the health of fire adapted ecosystems while simultaneously reducing hazardous fuels on the Bradshaw Ranger District. The project area encompasses about 55,554 acres. Within the project area, the proposal is to commercially thin approximately 16,312 acres in ponderosa pine, pine-oak, and mixed conifer forest types. Fuels treatments include mechanized fuel reduction on 34,445 acres of chaparral, pinyon-juniper, and oak sites and non-mechanized fuel reduction treatments on 6,242 acres of chaparral, juniper, pinyon, oak, pine, and mixed conifer sites. Prescribed fire is proposed on 44,641 acres and fuelbreak construction is proposed on 791 acres. It is expected that this project will require a site specific forest plan amendment to the Prescott National Forest Land and Resource Management Plan (1986), as amended, in order to implement treatments within Mexican Spotted Owl habitat.

DATES: Comments concerning the scope of the analysis should be received within 30 days after publication of this notice in the Federal Register. The draft environmental impact statement is expected in December, 2010 and the final environmental impact statement is expected in March, 2011.

ADDRESSES: Send written comments to Jodi Stevens, Bradshaw Ranger District, 344 South Cortez Street, Prescott, Arizona 86303. Comments may also be submitted by e-mail to: comments-southwestern-prescott@fs.fed.us. Include “Bradshaw Vegetation Management” in the subject line of e-mail comments. Electronic comments must be submitted in Word (.doc), RichText (.rtf), or Adobe Acrobat (.pdf) format.

FOR FURTHER INFORMATION CONTACT: Jodi Stevens, 928-443-8041 or jodistevens@fs.fed.us. Individuals who use telecommunication devices for the deaf (TDD) may call the Federal Information Relay Service (FIRS) at 1-800-877-8339 between 8 a.m. and 8 p.m., Eastern Time, Monday through Friday.

SUPPLEMENTARY INFORMATION: Purpose and Need for Action: The purpose of the proposed action is to improve the health of fire adapted ecosystems while simultaneously reducing hazardous fuels. The EIS will describe existing conditions and desired conditions, analyze environmental consequences of shifting existing conditions towards desired conditions, and assist the decision maker in selecting management strategies that will achieve desired conditons. The proposed action is needed due to prominent changes in the structure and function of vegetation and fire behavior within the analysis area, and the proximity of homes and private property to these changed conditions. The changes in vegetation and fire behavior are a result of aggressive fire suppression over the past several decades. One of the most effective ways to protect communities is to create defensible fuel profile zones both adjacent to homes and private property and on adjacent public lands.

Proposed Action: The Prescott National Forest proposes to commercially thin approximately 16,312 acres in ponderosa pine, pine-oak, and mixed conifer forest types.

Proposed fuels treatments include mechanized fuel reduction on 34,445 acres of chaparral, pinyon-juniper, and oak sites, and non-mechanized fuel reduction treatments on 6,242 acres of chaparral, juniper, pinyon, oak, pine, and mixed conifer sites. Prescribed fire is proposed on 44,641 acres and fuelbreak construction is proposed on 791 acres. The project area is located to the southeast, south, southwest, west and northwest of the city of Prescott. Implementation of this proposed project could begin as early as June 1, 2011.

Responsible Official

The Responsible Official for this project is the Forest Supervisor, Prescott National Forest, Prescott, Arizona.

Nature of Decision To Be Made

The Forest Service will evaluate the proposed action and alternatives to the proposed action. After reviewing the proposed action, the alternatives, the environmental analysis, and considering public comment, the Forest Supervisor will reach a decision that is in accordance with the purpose and need for this project. The decision will include a description of activities that will be implemented. Issues identified as being outside the scope of this proposal (such as grazing cattle on the Forest or the need for additional recreation opportunities) will not be addressed in this planning effort.

Scoping Process

This notice of intent initiates the scoping process, which guides the development of the environmental impact statement. It is important that reviewers provide their comments at such times and in such manner that they are useful to the agency's preparation of the environmental impact statement. Therefore, comments should be provided prior to the close of the comment period and should clearly articulate the reviewer's concerns and be as specific as possible. There will be a public scoping meeting on Thursday, February 25, 2010 from 6 p.m. to 8 p.m. Arizona Time. This meeting will be held at the Mackin Building at the Prescott Rodeo Grounds, 840 Rodeo Drive, Prescott, AZ, 86305. Scoping letters will be mailed to individuals and entities who have identified themselves as interested publics regarding proposed actions on the Prescott National Forest. Additionally, scoping input will be requested through a publication in the Prescott Courier, the newspaper of local circulation in the proposed project area.

Dated: February 18, 2010.
Reta Laford,
Acting Forest Supervisor, Prescott National Forest.

[FR Doc. 2010-3965 Filed 3-1-10; 8:45 am]

BILLING CODE 3410-11-M